DEPARTMENT OF HEALTH AND HUMAN SERVICES

Administration for Children and Families

Submission for OMB Review; Comment Request

Title: Office of Community Services (OCS) Community Economic Development (CED) and Job Opportunities for Low-Income Individuals (JOLI) Standard Reporting Format.

OMB No.: New Collection.

Description: The Office of Community Services (OCS) is collecting key information about projects funded through the Community Economic Development (CED) and Job Opportunities for Low-Income Individuals (JOLI) programs. The legislative requirement for these two programs is in Title IV of the Community Opportunities, Accountability and Training and Educational Services Act (COATS Human Services Reauthorization Act) of October 27, 1998, Public Law 105-285, section 680(b) as amended. The Performance Progress Report (PPR) is a new proposed reporting format that will collect information concerning the outcomes and management of CED and JOLI projects. OCS will use the data to critically review the overall design and effectiveness of each program.

The PPR will be administered to all active grantees of the CED and JOLI programs. Grantees will be required to use this reporting tool for their semiannual reports. The majority of the questions in this tool were adapted from a previously approved questionnaire, Office of Management and Budget (OMB) Control Number: 0970-0317. Questions were also adapted to the OMB-approved reporting format of the PPR, specifically forms SF-PPR, SF-PPR-A, SF-PPR-B, and SF-PPR-E. Additional changes were made to improve the clarity and quality of the data and to eliminate unnecessary questions. The PPR will replace both the annual questionnaire and the current semi-annual reporting format, which will result in an overall reduction in burden for the grantees while significantly improving the quality of the data collected by OCS.

Respondents: Current CED and JOLI grantees.

Table 1—Annual Burden Estimate
Instrument | Number of responses | Number of responses per respondent | Average burden hours per response | Total burden hours
PPR Forms for current OCS JOLI grantees | 40 | 2 | 1.5 | 120
PPR Forms for current OCS CED grantees | 170 | 2 | 1.5 | 510
Estimated Annual Burden Hours |  |  |  | 630

Estimated Total Annual Burden Hours: 630.

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-7285, E-mail: OIRA_SUBMISSION@OMB.EOP.GOV, Attn: Desk Officer for the Administration for Children and Families.

Dated: December 21, 2010.
Robert Sargis,
Reports Clearance Officer.

[FR Doc. 2010-32509 Filed 12-27-10; 8:45 am]

BILLING CODE P